DEPARTMENT OF THE INTERIOR

National Park Service

[2608-VFF]

Information Collection Sent to the Office of Management and Budget (OMB) for Approval; OMB Control Number 1024-0252; The Interagency Access and Senior Pass Application Processes

AGENCY: National Park Service, Interior.

ACTION: Notice; request for comments.

SUMMARY: We (National Park Service) have sent an Information Collection Request (ICR) to OMB for review and approval. We summarize the ICR below and describe the nature of the collection and the estimated burden and cost. This ICR is scheduled to expire on February 28, 2011. We may not conduct or sponsor, and a person is not required to respond to, a collection of information unless it displays a currently valid OMB control number. Under OMB regulations, we may continue to conduct or sponsor this information collection while it is pending at OMB.

DATES: You must submit comments on or before December 10, 2010.

ADDRESSES: Send your comments and suggestions on this information collection to the Desk Officer for the Department of the Interior, Office of Information and Regulatory Affairs, OMB, at (202) 395-5806 (fax) or OIRA_DOCKET@OMB.eop.gov (e-mail). Please provide a copy of your comments to NPS, WASO Recreation Fee Program Office, 1849 C St. NW, (2608), Washington, DC 20240; phone: (202) 513-7096; e-mail: brandon_flint@nps.gov, or by fax at (202) 371-2401.

FOR FURTHER INFORMATION CONTACT: To request additional information about this ICR, contact Brandon Flint by mail, fax, or e-mail (see ADDRESSES) or by telephone at (202) 513-7096.

SUPPLEMENTARY INFORMATION: OMB Control Number: 1024-0252.

Title: The Interagency Access and Senior Pass Application Processes.

Form Number: None.

Type of Request: Revision of a current approved collection.

Description of Respondents: Individuals applying for free access passes to multiple agency recreational areas based on disability or age.

Respondent's Obligation: Required to obtain or retain benefits.

Frequency of Collection: Once per respondent.

Estimated Number of Respondents: 100,900.

Estimated Number of Responses: 100,900.

Completion Time per Response: 69,730 @ 5minutes (0.083 hours) and 31,170 @ 10 minutes (0.167 hours).

Estimated Annual Burden Hours: 11,006.

Estimated Annual Nonhour Burden Cost: $19,949.

Abstract: The America the Beautiful—the National Parks and Federal Recreational Lands Access Pass and Senior Passes are free, lifetime Passes issued by the Bureau of Land Management, the Bureau of Reclamation, the U.S. Fish and Wildlife Service, the U.S. Forest Service, and the National Park Service. The Interagency Access Pass is available to citizens or persons domiciled in the United States, regardless of age, who have a medical determination and documentation of permanent disability. The Interagency Senior Pass is available to citizens or persons domiciled in the United States who are 62 years of age or older.

In the past, the processes to obtain these Passes required in-person application. The proposed revision to current policy creates processes for applicants to obtain either Pass through the mail. Standard Operating Procedures have been updated to reflect the change to allow applicants to submit applications by mail along with photo copies of identification verifying U.S. residency or citizenship and documentation of disability for the Interagency Access Pass or U.S. residency or citizenship, and age for the Interagency Senior Pass. The process for obtaining an Interagency Access or Senior Pass in person is not changing.

Comments: On June 9, 2010, we published in the Federal Register (75 FR 32810-32811) a notice of our intent to request that OMB renew this information collection. In that notice, we solicited comments for 60 days, ending on August 9, 2010. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments you submit in response to this notice are a matter of public record. Before including your address, phone number, e-mail address, or other personal identifying information in your comment, you should be aware that your entire comment, including your personal identifying information, may be made publicly available at any time. While you can ask OMB in your comment to withhold your personal identifying information from public review, we cannot guarantee it will be done.

Dated: November 5, 2010.
Robert Gordon,
NPS, Information Collection Clearance Officer.

[FR Doc. 2010-28429 Filed 11-9-10; 8:45 am]

BILLING CODE 4312-52-P